DEPARTMENT OF AGRICULTURE

Animal and Plant Health Inspection Service

[Docket No. APHIS-2010-0058]

Notice of Decision To Issue Permits for the Importation of Sweet Limes From Mexico Into the Continental United States

AGENCY: Animal and Plant Health Inspection Service, USDA.

ACTION: Notice.

SUMMARY: We are advising the public of our decision to begin issuing permits for the importation into the continental United States of sweet limes from Mexico. Based on the findings of a pest risk analysis, which we made available to the public for review and comment through a previous notice, we believe that the application of one or more designated phytosanitary measures will be sufficient to mitigate the risks of introducing or disseminating plant pests or noxious weeds via the importation of sweet limes from Mexico.

EFFECTIVE DATE: September 17, 2010.

FOR FURTHER INFORMATION CONTACT: Mr. David Lamb, Import Specialist, Regulatory Coordination and Compliance, PPQ, APHIS, 4700 River Road Unit 133, Riverdale, MD 20737; (301) 734-0627.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spreading within the United States. Under that process, APHIS may publish a notice in the Federal Register announcing the availability of a pest risk analysis that evaluates the risks associated with the importation of a particular fruit or vegetable. Following the close of the 60-day comment period, APHIS may begin issuing permits for importation of the fruit or vegetable subject to the risk-mitigation measures identified in the pest risk analysis if: (1) No comments were received on the pest risk analysis; (2) the comments on the pest risk analysis revealed that no changes to the pest risk analysis were necessary; or (3) changes to the pest risk analysis were made in response to public comments, but the changes did not affect the overall conclusions of the analysis and the Administrator’s determination of risk.

In accordance with that process, we published a notice¹ in the Federal Register on June 10, 2010 (75 FR 32900-32901, Docket No. APHIS-2010-0058), in which we announced the availability, for review and comment, of a pest risk analysis evaluating the risks associated with the importation into the continental United States of sweet limes from Mexico. We solicited comments on the notice for 60 days ending on August 9, 2010. We received one comment by that date, from a State agricultural agency. The commenter concurred with the findings of our pest risk analysis.

¹ To view the notice, the pest risk analysis, and the comment we received, go to (http://www.regulations.gov/fdmspublic/component/main?main=DocketDetail&d=APHIS-2010-0058).

Therefore, in accordance with the regulations in § 319.56-4(c)(2)(ii), we are announcing our decision to begin issuing permits for the importation into the continental United States of sweet limes from Mexico provided that:

• The sweet limes may be imported into the United States in commercial consignments only.

• The sweet limes must be irradiated in accordance with 7 CFR part 305 with a minimum absorbed dose of 150 Gy.

• Each shipment of sweet limes must be inspected by the Mexican national plant protection organization and accompanied by a phytosanitary certificate attesting that the fruit received the required irradiation treatment and bearing an additional declaration that states that the fruit was inspected in the packinghouse and found free of Brevipalpus californicus, B. phoenicus, Diaphorina citri, and Coniothecium scabrum.

These conditions will be listed in the Fruits and Vegetables Import Requirements database (available at (http://www.aphis.usda.gov/favir)). In addition to these specific measures, sweet limes from Mexico will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 13th day of September 2010.

Kevin Shea,
Acting Administrator, Animal and Plant Health Inspection Service.

[FR Doc. 2010-23238 Filed 9-16-10; 11:25 am]

BILLING CODE 3410-34-S